COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before May 11, 2017.

ADDRESSES: Comments regarding the burden estimated or any other aspect of the information collection, including suggestions for reducing the burden, may be submitted directly to the Office of Information and Regulatory Affairs (“OIRA”) in OMB, within 30 days of the notice's publication, by email at OIRAsubmissions@omb.eop.gov. Please identify the comments by OMB Control No. 3038-0090. Please provide the Commodity Futures Trading Commission (“CFTC” or “Commission”) with a copy of all submitted comments at the address listed below. Please refer to OMB Reference No. 3038-0090, found on http://reginfo.gov. Comments may also be mailed to the Office of Information and Regulatory Affairs, Office of Management and Budget, Attention: Desk Officer for the Commodity Futures Trading Commission, 725 17th Street NW., Washington, DC 20503, and to: Christopher J. Kirkpatrick, Secretary of the Commission, Commodity Futures Trading Commission, 1155 21st Street NW., Washington, DC 20581 or by Hand Deliver/Courier at the same address; or through the Agency's Web site at http://comments.cftc.gov. Follow the instructions for submitting comments through the Web site.

A copy of the supporting statements for the collection of information discussed above may be obtained by visiting http://RegInfo.gov. All comments must be submitted in English, or if not, accompanied by an English translation. Comments will be posted as received to http://www.cftc.gov.

FOR FURTHER INFORMATION CONTACT: August A. Imholtz III, Special Counsel, Division of Swap Dealer and Intermediary Oversight, Commodity Futures Trading Commission, (202) 418-5140; email: aimholtz@cftc.gov, and refer to OMB Control No. 3038-0090.

SUPPLEMENTARY INFORMATION:

Title: Adaption of Regulations to Incorporate Swaps—Records of Transactions (OMB Control No. 3038-0090). This is a request for an extension and revision of a currently approved information collection.

Abstract: The Commission recently amended Regulation 1.35(a) to change and clarify several of the existing recordkeeping requirements that apply to certain registrants and market participants. Records of Commodity Interest and Related Cash or Forward Transactions, 80 FR 80247 (Dec. 24, 2015). Specifically, the amendment to Regulation 1.35: (1) Excludes members of designated contract markets (“DCMs”) and members of swap execution facilities (“SEFs”) that are not registered or required to register with the Commission (“Unregistered Members”) from the requirement to keep written communications that lead to the execution of a commodity interest transaction and related cash or forward transactions; (2) excludes Unregistered Members from the requirement to maintain records in a particular form and manner; (3) excludes Unregistered Members from the requirement to retain text messages; (4) excludes commodity trading advisors (“CTAs”) that are members of a DCM or of a SEF from the requirement to record oral communications that lead to the execution of a transaction; and (5) clarifies the form and manner requirements that apply to required records.

In Agency Information Collection Activities: Proposed Collection Revision, Comment Request: Final Rule for Records of Commodity Interest and Related Cash or Forward Transactions, 80 FR 80327 (Dec. 24, 2015), the Commission addressed the PRA implications of this amendment of Regulation 1.35. First, the Commission estimated that changing Regulation 1.35(a) to exclude Unregisted Members from the requirement to keep written communications that lead to transaction execution will decrease the information collection burden under the rule by approximately one-half hour per week per entity. Second, the Commission estimated that excluding Unregistered Members from the requirement to maintain records in a particular form and manner will decrease the information collection burden by approximately one-half hour per month per entity. Third, the Commission estimated that excluding Unregistered Members from the requirement to retain text messages will decrease the information collection burden by approximately approximately one-half hour per month per entity. In connection with these estimates, the Commission estimated that there are approximately 3,200 Unregistered Members that will have their recordkeeping obligations reduced as a result of these three changes to Regulation 1.35(a). Next, the Commission estimated that excluding CTAs that are members of a DCM or of a SEF from the requirement to record oral communications that lead to transaction execution will decrease the information collection burden by approximately one-half hour per week per entity. In connection with this estimate, the Commission estimated that there are approximately 1,175 CTAs that will have their recordkeeping obligations reduced as a result of this change to Regulation 1.35(a). Finally, the Commission noted that because the revised form and manner requirements are a clarification of the prior requirements, the revised requirements do not increase or decrease the information collection burden.

In the Agency Information Collection Activities: Proposed Collection Revision, Comment Request: Final Rule for Records of Commodity Interest and Related Cash or Forward Transactions, the Commission requested comments on, among other things, its estimates regarding the modified information collection burdens associated with the changes to Regulation 1.35(a). The Commission did not receive any comments that addressed any of its estimates or any other aspect of the information collection.

Burden Statement: The amendment of Regulation 1.35 reduces the recordkeeping burdens of Unregistered Members and of CTAs that are members of a DCM or of a SEF. For each respondent that is an Unregistered Member, the Commission estimates that the amendment reduces the annual recordkeeping burden by a total of 38 hours. For each respondent that is a CTA, the Commission estimates that the amendment reduces the annual recordkeeping burden by a total of 26 hours.

The Commission estimates the burden of this collection of information as follows:

Respondents/Affected Entities: Futures Commission Merchants, Retail Foreign Exchange Dealers, Introducing Brokers, and Members of a DCM or of a SEF.

Estimated number of respondents: 6,000.

Estimated total annual burden on respondents: 321,449 hours.¹

¹ In the Agency Information Collection Activities: Proposed Collection Revision, Comment Request: Final Rule for Records of Commodity Interest and Related Cash or Forward Transactions, the Commission mistakenly estimated the total annual burden on respondents to be 319,707. This estimate appears to have incorporated a mathematical error. The correct estimate of the total annual burden on respondents is, and should have been, 321,449.

Frequency of collection: Ongoing.

There are no capital costs or operating and maintenance costs associated with this collection.

Authority: 44 U.S.C. 3501 et seq.

Dated: April 5, 2017.
Robert N. Sidman,
Deputy Secretary of the Commission.

[FR Doc. 2017-07183 Filed 4-10-17; 8:45 am]

BILLING CODE 6351-01-P